DEPARTMENT OF DEFENSE

Office of the Secretary

Submission for OMB Review; Comment Request

AGENCY: Department of Defense.

ACTION: Notice

The Department of Defense has submitted to OMB for clearance, the following proposal for collection of information under the provisions of the Paperwork Reduction Act (44 U.S.C. Chapter 35).

DATES: Consideration will be given to all comments received by July 25, 2005.

Title and OMB Number: Defense Federal Acquisition Regulation Supplement (DFARS), Part 216, Types of Contracts, and related clauses in Part 252.216; OMB Control Number 074-0259.

Type of Request: Extension.

Number of Respondents: 204.

Responses per Respondent: 1.94.

Annual Responses: 395.

Average Burden per Response: 4.03 hours.

Annual Burden Hours: 1,592.

Needs and Uses: The clauses at DRARS 252.216-7000, 252.216-7001, and 252.216-7003 require contractors with fixed-price economic price adjustment contracts to submit information to the contracting officer regarding changes in established material prices or wage rates. The contracting officer uses this information to make appropriate adjustments to contract prices.

Affected Public: Business or other for-profit.

Frequency: On occasion.

Respondent's Obligation: Required to obtain or retain benefits.

OMB Desk Officer: Mr. Lewis Oleinick. Written comments and recommendations on the proposed information collection should be sent to Mr. Oleinick at the Office of Management and Budget, Desk Officer for DoD, Room 10236, New Executive Office Building, Washington, DC 20503.

DOD Clearance Officer: Ms. Patricia Toppings.

Written requests for copies of the information collection proposal should be sent to Ms. Toppings, WHS/ESCD/Information Management Division, 1225 South Clark Street, Suite 504, Arlington, VA 22202-4326.

Dated: June 15, 2005.
Patricia L. Toppings,
Alternate OSD Federal Register Liaison Office, Department of Defense.

[FR Doc. 05-12506 Filed 6-23-05; 8:45 am]

BILLING CODE 5001-06-M